DEPARTMENT OF LABOR

Employment and Training Administration

[NAFTA—04130]

Brown Wooten Mills, Inc., Ballston Plant, Mount Airy, NC; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 USC 2273), an investigation was initiated on August 14, 2000, in response to a petition filed on behalf of workers at Brown Wooten Mills, Inc., Ballston Plant, Mount Airy, North Carolina.

The petitioner has requested that the petition for NAFTA-TAA be withdrawn. Consequently, further investigation in this case would serve no purpose, and the investigation has been terminated.

Signed at Washington, D.C., this 10th day of October 2000.
Linda G. Poole,
Certifying Officer, Division of Trade Adjustment Assistance.

[FR Doc. 00-27568 Filed 10-25-00; 8:45 am]

BILLING CODE 4510-30-M